DEPARTMENT OF COMMERCE

Foreign-Trade Zones Board

[Docket 36-2003]

Foreign-Trade Zone 234—Gregg County, TX, Application for Subzone Status, Eubank Manufacturing Enterprises, Inc. (Air Conditioning and Heating Equipment), Longview, TX

An application has been submitted to the Foreign-Trade Zones Board (the Board) by Gregg County, Texas, grantee of FTZ 234, requesting special-purpose subzone status for the air conditioning and heating equipment manufacturing plant of Eubank Manufacturing Enterprises, Inc. (Eubank) (a subsidiary of Fedders Corporation), located in Longview, Texas. The application was submitted pursuant to the provisions of the Foreign-Trade Zones Act, as amended (19 U.S.C. 81a-81u), and the regulations of the Board (15 CFR part 400). It was formally filed on July 21, 2003.

The Eubank plant (9 acres/140,000 sq.ft.) is located adjacent to Interstate Highway 20 and FM2011 in Longview (Gregg County), Texas. The facility (140 employees) is used to produce air conditioning units (window/wall, unitary, condensing) and components (A-coils), air handlers, and furnaces for export and the U.S. market. The finished products are manufactured from domestic and foreign-origin components. Components that are, or may be, purchased from abroad (representing approximately 25% of finished product value) include: gases classified under HTSUS heading 2903—saturated/unsaturated chlorinated derivatives of acyclic hydrocarbons; fluorinated, brominated or iodinated derivatives of acyclic hydrocarbons; halogenated derivatives of cyclanic, cyclenic or cycloterpenic hydrocarbons; halogenated derivatives of aromatic hydrocarbons; polystyrene, styrene acrylonitrile, ABS and MBS copolymers, plastic gaskets/washer/seals/o-rings, v-belts and fasteners, articles of hard rubber, printed labels, glass fiber yarn (Category 201; must be admitted under privileged foreign status—19 CFR 146.41), glass fiber fabric, steel cloth/netting/fencing/bands, fasteners, radiators, hot-air distributors, copper bars/rods/profiles/tubes/pipes/fittings, aluminum bars/rods/profiles/plates/ sheets/strips/foil, compressors, pumps, fans, hoods, furnace burners, filters, valves (check, safety relief, control, regulator), electric motors, transformers, conductors, rectifiers, power supplies, capacitors, switches, terminals, connectors, switchboards, circuit breakers, contractors, wire, thermostats, regulators, and controllers (duty rate range: free—7.4%)

FTZ procedures would exempt Eubank from Customs duty payments on the foreign materials used in export production. On its domestic sales and exports to NAFTA markets, the company would be able to choose the duty rate that applies to the finished air conditioning and heating equipment and components (free, 1.4%) for the foreign-sourced inputs noted above. Foreign status merchandise and domestic merchandise destined for export would be exempt from certain local inventory taxes. Eubank would be able to defer Customs duty payments on foreign-origin finished products that would be admitted to the proposed subzone for U.S. distribution. Duties would be deferred or reduced on foreign production equipment admitted to the proposed subzone until which time it becomes operational. The application indicates that subzone status would help improve the plant's international competitiveness.

In accordance with the Board's regulations, a member of the FTZ Staff has been designated examiner to investigate the application and report to the Board.

Public comment on the application is invited from interested parties. Submissions (original and three copies) shall be addressed to the Board's Executive Secretary at the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB-4100W, 1401 Constitution Ave., NW., Washington, DC 20230.

The closing period for their receipt is September 26, 2003. Rebuttal comments in response to material submitted during the foregoing period may be submitted during the subsequent 15-day period (to October 14, 2003).

A copy of the application will be available for public inspection at the Office of the Foreign-Trade Zones Board's Executive Secretary at address No. 1 listed above and at the U.S. Department of Commerce Export Assistance Center, Business Education Building 119H, One University Place, Shreveport, LA 71115-2399.

Dated: July 21, 2003.
Pierre V. Duy,
Acting Executive Secretary.

[FR Doc. 03-19138 Filed 7-25-03; 8:45 am]

BILLING CODE 3510-DS-P